OFFICE OF PERSONNEL MANAGEMENT

Excepted Service

AGENCY: U.S. Office of Personnel Management (OPM).

ACTION: Notice.

SUMMARY: This notice identifies Schedule A, B, and C appointing authorities applicable to a single agency that were established or revoked from April 1, 2013, to April 30, 2013.

FOR FURTHER INFORMATION CONTACT: Senior Executive Resources Services, Senior Executive Service and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

75. Woodrow Wilson International Center for Scholars (Sch. A, 213.3175)

(a) One Asian Studies Program Administrator, one International Security Studies Program Administrator, one Latin American Program Administrator, one Russian Studies Program Administrator, two Social Science Program Administrators, one Middle East Studies Program Administrator, one African Studies Program Administrator, one Global Sustainability and Resilience Program Administrator, one Canadian Studies Program Administrator; one China Studies Program Administrator, and one Science, Technology and Innovation Program Administrator.

Schedule B

10. Department of Justice (Sch. B, 213.3210)

(f) Bureau of Alcohol, Tobacco, and Firearms

(1) Criminal Investigator positions, grades GS-5 through GS-12 (or equivalent). Service under this authority may not exceed 3 years and 120 days.

Schedule C

The following Schedule C appointing authorities were approved during April 2013.

Agency name | Organization name | Position title | Authorization No. | Effective date
Department of Agriculture | Office of the Under Secretary for Rural Development | Special Assistant | DA130031 | 4/4/2013
|  | State Executive Director, Colorado | DA130053 | 4/22/2013
| Office of the Assistant Secretary for Administration | Senior Advisor | DA130039 | 4/4/2013
| Farm Service Agency | State Executive Director, Connecticut | DA130049 | 4/15/2013
| Office of the Under Secretary for Farm and Foreign Agricultural Service | State Executive Director, Minnesota | DA130056 | 4/30/2013
Department of Commerce | Trade Promotion and the U.S. and Foreign Commercial Service | Special Assistant | DC130041 | 4/30/2013
| Office of the Under Secretary | Director, Office of Legislative Affairs | DC130042 | 4/30/2013
Department of Defense | Washington Headquarters Services | Defense Fellow | DD130057 | 4/5/2013
| Office of the Assistant Secretary of Defense (Homeland Defense and Americas' Security Affairs) | Special Assistant for Homeland Defense and Americas' Security Affairs | DD130050 | 4/9/2013
| Office of the Under Secretary of Defense (Personnel and Readiness) | Director, Defense Suicide Prevention Office | DD130046 | 4/22/2013
Department of Education | Office of the Under Secretary | Executive Director, White House Initiative on Educational Excellence for Hispanics | DB130022 | 4/3/2013
| Office of Postsecondary Education | Deputy Assistant Secretary for International and Foreign Language Education | DB130031 | 4/12/2013
| Office of Communications and Outreach | Deputy Press Secretary for Strategic Communications | DB130025 | 4/19/2013
| Office of Innovation and Improvement | Confidential Assistant | DB130041 | 4/30/2013
Environmental Protection Agency | Office of the Administrator | Director of Scheduling and Advance | EP130017 | 4/17/2013
| Office of the Associate Administrator for External Affairs and Environmental Education | Deputy Press Secretary | EP130015 | 4/22/2013
Federal Trade Commission | Office of the Chairman | Confidential Assistant | FT130004 | 4/15/2013
General Services Administration | Office of the Administrator | Special Assistant | GS130004 | 4/23/2013
Department of Health and Human Services | Office of the Deputy Secretary | Special Assistant | DH130053 | 4/4/2013
| Office of the Secretary | Special Assistant | DH130058 | 4/12/2013
|  | Director of Scheduling and Advance | DH130059 | 4/12/2013
| Office of the Assistant Secretary for Public Affairs | Director of Public Health Initiatives | DH130060 | 4/30/2013
Department of Homeland Security | Federal Emergency Management Agency | Director of Individual and Community Preparedness | DM130059 | 4/5/2013
| Office of the Assistant Secretary for Intergovernmental Affairs | Intergovernmental Affairs Coordinator | DM130061 | 4/5/2013
| Office of the Chief of Staff | Deputy Chief of Staff | DM130052 | 4/15/2013
Department of Housing and Urban Development | Office of Public Affairs | Press Secretary | DU130008 | 4/2/2013
Department of the Interior | National Park Service | Assistant Coordinator for the Centennial | DI130018 | 4/11/2013
|  | Advisor, National Park Service | DI130019 | 4/11/2013
| Secretary's Immediate Office | Press Assistant | DI130022 | 4/22/2013
Department of Justice | Office of the Deputy Attorney General | Counsel | DJ130044 | 4/9/2013
| Tax Division | Confidential Assistant | DJ130046 | 4/9/2013
Department of Labor | Office of the Deputy Secretary | Policy Advisor | DL130018 | 4/4/2013
| Office of Congressional and Intergovernmental Affairs | Regional Representative | DL130016 | 4/11/2013
| Office of the Assistant Secretary for Policy | Senior Policy Advisor | DL130023 | 4/18/2013
Office of Personnel Management | Office of the General Counsel | Deputy General Counsel for Policy | PM130007 | 4/4/2013
Department of Transportation | Assistant Secretary for Budget and Programs | Senior Advisor for Budget and Programs | DT130014 | 4/11/2013
Department of the Treasury | Assistant Secretary (Public Affairs) | Spokesperson (2) | DY130032 | 4/23/2013
|  |  | DY130033 | 4/23/2013

The following Schedule C appointing authorities were revoked during April 2013.

Agency name | Organization name | Position title | Authorization No. | Vacate date
Department of Commerce | Office of the Chief of Staff | Executive Assistant to the Secretary | DC120005 | 4/6/2013
|  | Deputy Director of Scheduling | DC100111 | 4/22/2013
| National Oceanic and Atmospheric Administration | Deputy Director, Office of Legislative Affairs | DC110104 | 4/22/2013
| Office of the Assistant Secretary for Legislative and Intergovernmental Affairs | Associate Director of Legislative Affairs | DC110037 | 4/26/2013
Department of Defense | Office of the Secretary | Confidential Assistant | DD110125 | 4/12/2013
Department of Education | Office of the Secretary | Special Assistant | DB110101 | 4/6/2013
| Office of Innovation and Improvement | Special Assistant | DB120048 | 4/20/2013
Department of Energy | Assistant Secretary for Energy Efficiency and Renewable Energy | Director of Legislative Affairs | DE120145 | 4/12/2013
| Office of Public Affairs | Senior Digital Communications Strategist | DE120059 | 4/25/2013
Environmental Protection Agency | Office of the Administrator | Director of Scheduling and Advance | EP110042 | 4/5/2013
Department of Homeland Security | Federal Emergency Management Agency | Director of Intergovernmental Affairs | DM100175 | 4/6/2013
| Office of the Chief of Staff | Special Assistant | DM120158 | 4/6/2013
| Office of the Assistant Secretary for Public Affairs | Director of Communications and Advisor to the Secretary | DM120156 | 4/20/2013
Department of Housing and Urban Development | Office of Public Affairs | Assistant Press Secretary | DU120014 | 4/12/2013
Department of the Interior | Assistant Secretary for Policy, Management and Budget | Special Assistant to the Assistant Secretary for Policy, Management and Budget | DI100048 | 4/8/2013
| Secretary's Immediate Office | Press Assistant | DI130014 | 4/15/2013
Department of Justice | Antitrust Division | Confidential Assistant | DJ090178 | 4/19/2013
Department of Labor | Office of Public Affairs | Special Assistant | DL110047 | 4/6/2013
| Office of the Secretary | Deputy Director of Scheduling and Advance | DL130013 | 4/12/2013
|  | Special Assistant | DL090048 | 4/19/2013
Department of State | Bureau of International Narcotics and Law Enforcement Affairs | Special Assistant | DS110059 | 4/6/2013

Authority: 5 U.S.C. 3301 and 3302; E.O. 10577, 3 CFR, 1954-1958 Comp., p. 218.

U.S. Office of Personnel Management.
Elaine Kaplan,
Acting Director.

[FR Doc. 2013-18607 Filed 8-1-13; 8:45 am]

BILLING CODE 6325-39-P